DEPARTMENT OF TRANSPORTATION

Federal Railroad Administration

[Docket Number FRA-2003-15432]

BNSF Railway Company; Notice of Public Hearing and Extension of Comment Period

The BNSF Railway Company has petitioned the Federal Railroad Administration (FRA) seeking approval to expand the existing waiver, granted on June 23, 2004, to include the area from Fort Worth, Texas, milepost 346.67, to Arkansas City, Kansas, milepost 264.11, on the Fort Worth and Red Rock Subdivisions, a distance of approximately 329 miles. This expansion request is identified as Docket No. FRA-2003-15432.

The FRA had issued a public notice seeking comments of interested parties. After examining the railroad's proposal and the comments received, FRA has determined that a public hearing is necessary before a final decision is made on this proposal. FRA is also extending the comment period to one week beyond the date of the public hearing. If information received at the public hearing warrants the need to extend the comment period even further, a separate notice will be published indicating such extension.

Accordingly, a public hearing is hereby set for 1 p.m. (Eastern Standard Time), on Thursday, February 23, 2006, at the Wyndham Hotel, Vista Ballroom C, 1400 M Street, NW., Washington, DC 20005. Interested parties are invited to present oral statements at the hearing. The hearing will be informal and will be conducted by a representative designated by the FRA, in accordance with Rule 25 of the FRA Rules of Practice (49 CFR part 211.25). The hearing will be a non-adversary proceeding and, therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

In addition, FRA is extending the comment period to March 2, 2006. All communications concerning these proceedings should identify the appropriate docket number (e.g., Waiver Petition Docket Number FRA-2003-15432) and must be submitted to the Docket Clerk, DOT Docket Management Facility, Room PL-401 (Plaza Level), 400 7th Street, SW., Washington, DC 20590. All written communications concerning these proceedings are available for examination during regular business hours (9 a.m.-5 p.m.) at the above facility. All documents in the public docket are also available for inspection and copying on the Internet at the docket facility's Web site at http://dms.dot.gov.

Anyone is able to search the electronic form of all comments received and entered into our dockets by the name of the individual submitting the comment (or signing the comment, if submitted on behalf of an association, business, labor union, etc.). You may review DOT's complete Privacy Act Statement in the Federal Register published on April 11, 2000, (Volume 65, Number 70; Pages 19477-78). The Statement may also be found at http://dms.dot.gov.

Issued in Washington, DC, on January 30, 2006.
Grady C. Cothen, Jr.,
Deputy Associate Administrator for Safety Standards and Program Development.

[FR Doc. E6-1425 Filed 2-1-06; 8:45 am]

BILLING CODE 4910-06-P